FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011223-035.

Title: Transpacific Stabilization Agreement.

Parties: APL Co. Pte. Ltd./American President Lines, Ltd.; COSCO Container Lines Company Ltd.; Evergreen Marine Corporation (Taiwan) Ltd.; Hanjin Shipping Co., Ltd.; Hapag-Lloyd AG; Hyundai Merchant Marine Co., Ltd.; Kawasaki Kisen Kaisha, Ltd.; Mitsui O.S.K. Lines, Ltd.; Nippon Yusen Kaisha; Orient Overseas Container Line Limited; and Yangming Marine Transport Corp.

Filing Party: David F. Smith, Esq.; Sher & Blackwell LLP; 1850 M Street NW.; Suite 900; Washington, DC 20036.

Synopsis: The amendment would add CMA-CGM, S.A. as a party to the agreement.

Agreement No.: 011223-036.

Title: Transpacific Stabilization Agreement.

Parties: APL Co. Pte. Ltd.; American President Lines, Ltd.; COSCO Container Lines Co., Ltd.; Evergreen Marine Corporation (Taiwan) Ltd.; Hanjin Shipping Co., Ltd.; Hapag-Lloyd AG; Hyundai Merchant Marine Co., Ltd.; Kawasaki Kisen Kaisha, Ltd.; Mitsui O.S.K. Lines, Ltd.; Nippon Yusen Kaisha; Orient Overseas Container Line Limited; and Yangming Marine Transport Corp.

Filing Party: David F. Smith, Esq.; Sher & Blackwell LLP; 1850 M Street NW.; Suite 900; Washington, DC 20036.

Synopsis: The amendment substitutes COSCO Container Lines (Hong Kong) Co., Ltd. for COSCO Container Lines Co., Ltd. as a party to the agreement. The parties request expedited review.

Agreement No.: 011325-037.

Title: Westbound Transpacific Stabilization Agreement.

Parties: American President Lines, Ltd.; APL Co. Pte Ltd.; COSCO Container Lines Company Limited; Evergreen Marine Corporation (Taiwan), Ltd.; Hanjin Shipping Co., Ltd.; Hapag-Lloyd AG; Hyundai Merchant Marine Co. Ltd.; Kawasaki Kisen Kaisha, Ltd.; Nippon Yusen Kaisha Line; Orient Overseas Container Line Limited; and Yangming Marine Transport Corp.

Filing Party: David F. Smith, Esq.; Sher & Blackwell, LLP; 1850 M Street, NW.; Suite 900; Washington, DC 20036.

Synopsis: The amendment substitutes COSCO Container Lines (Hong Kong) Co., Ltd. for COSCO Container Lines Co., Ltd, as a party to the agreement. The parties request expedited review.

Agreement No.: 011987.

Title: WHL/PIL Slot Exchange and Sailing Agreement.

Parties: Wan Hai Lines and Pacific International Lines (Pte)Ltd.

Filing Party: Robert B. Yoshitomi, Esq.; Nixon Peabody LLP; 555 West Fifth Street; 46th Floor; Los Angeles, CA 90013.

Synopsis: The agreement authorizes the parties to charter slots to each other and coordinate their sailings in the trades between Asia, including China, Hong Kong, Taiwan, and South Korea, and the West Coast of the United States.

By Order of the Federal Maritime Commission.
Dated: January 26, 2007.
Bryant L. VanBrakle,
Secretary.

[FR Doc. E7-1538 Filed 1-30-07; 8:45 am]

BILLING CODE 6730-01-P